DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-0361.

Project: Treatment Episode Data Set (TEDS) (OMB No. 0930-0335)—Extension

The Substance Abuse and Mental Health Services Administration (SAMHSA) is requesting an extension to collect the Treatment Episode Data Set (TEDS) data collection (OMB No. 0930-0335), which expires on April 30, 2022. TEDS is a compilation of client-level substance use treatment admission and discharge data submitted by states on clients treated in facilities that receive state funds. SAMHSA is also requesting an extension to collect the client-level mental health admission and update/discharge data (MH-TEDS/MH-CLD) submitted by states on clients treated in facilities that receive state funds (also OMB No. 0930-0335).

TEDS/MH-TEDS/MH-CLD data are collected to obtain information on the number of admissions and updates/discharges at publicly funded substance use treatment and mental health services facilities and on the characteristics of clients receiving services at those facilities.

TEDS/MH-TEDS/MH-CLD also monitor trends in the demographic, substance use, and mental health characteristics of admissions. In addition, several of the data elements used to calculate performance measures for the Substance Abuse Block Grant (SABG) and Mental Health Block Grant (MHBG) applications are collected through the TEDS/MH-TEDS/MH-CLD.

Most states collect the TEDS/MH-TEDS/MH-CLD data elements from their treatment providers for their own administrative purposes and are able to submit a cross-walked extract of their data to TEDS/MH-TEDS/MH-CLD. No changes are expected in the TEDS/MH-TEDS/MH-CLD data elements that are collected.

Estimated annual burden for the separate TEDS/MH-TEDS/MH-CLD activities is as follows:

Type of activity | Number of respondents (states/ jurisdictions) | Responses per respondent | Total responses | Hours per response | Total burden hours
TEDS Admission Data | 52 | 4 | 208 | 6.25 | 1,300
TEDS Discharge Data | 52 | 4 | 208 | 8.25 | 1,716
TEDS Crosswalks | 5 | 1 | 5 | 10 | 50
MH-CLD BCI Data | 30 | 1 | 30 | 30 | 900
MH-CLD SHR Data | 30 | 1 | 30 | 5 | 150
MH-TEDS Admissions Data | 29 | 4 | 116 | 6.25 | 725
MH-TEDS Update/Discharge Data | 29 | 4 | 116 | 8.25 | 957
MH-TEDS Crosswalks | 10 | 1 | 10 | 10 | 100
Total | 59 |  | 723 |  | 5,898

Written comments and recommendations for the proposed information collection should be sent within 30 days of publication of this notice to www.reginfo.gov/public/do/PRAMain. Find this particular information collection by selecting “Currently under 30-day Review—Open for Public Comments” or by using the search function.

Carlos Graham,
Reports Clearance Officer.

[FR Doc. 2021-24221 Filed 11-4-21; 8:45 am]

BILLING CODE 4162-20-P